DEPARTMENT OF DEFENSE

Department of the Air Force

Proposed Collection; Comment Request

AGENCY: United States Air Force (USAF) Museum System; DoD.

ACTION: Notice.

In compliance with Section 3506(c)(2)(A) of the Paperwork Reduction Act of 1995, the United States Air Force Museum System announces the proposed revision of a currently approved public information collection and seeks public comment on the provisions thereof. Comments are invited on: (a) whether the proposed collection of information is necessary for the proper performance of the functions of the agency, including whether the information shall have practical utility; (b) the accuracy of the agency's estimate of the burden of the proposed information collection; (c) ways to enhance the quality, utility and clarity of the information to be collected; and (d) ways to minimize the burden of the information collection on respondents, including through the use of automated collection techniques or other forms of information technology.

DATES: Consideration will be given to all comments received by April 17, 2000.

ADDRESSES: Written comments and recommendations on the proposed information collection should be sent to the United States Air Force Museum, 1100 Spaatz Street, Wright-Patterson AFB, OH 45433-7192, ATTN: Ms. Bonnie Holtmann, Volunteer Services Administrator.

FOR FURTHER INFORMATION CONTACT: To request more information on this proposed information collection or to obtain a copy of the proposal and associated collection instruments, please write to the above address, or call the Volunteer Services Office at (937) 255-8099, extension 313.

Title, Associated Form, and OMB Number: USAF Museum System Volunteer Application/Registration, Air Force Form (AF) 3569, September 1997, OMB Number 0701-0127.

Needs and Uses: The information collection requirement is necessary to provide: (a) the general public an instrument to interface with the USAF Museum System Volunteer Program; (b) the USAF Museum System the means with which to select respondents pursuant to the USAF Museum System Volunteer Program. The primary uses of the information collection includes the evaluation and placement of respondents within the USAF Museum System Volunteer Program.

Affected Public: General population civilian, active and retired military individuals.

Annual Burden Hours: 68 hours.

Number of Respondents: 271 per annum.

Responses per Respondent: 1.

Average Burden per Response: 15 minutes.

Frequency: One time only.

SUPPLEMENTARY INFORMATION:

Summary of Information Collection

Respondents are individuals expressing an interest in participating in the USAF Museum System Volunteer Program authorized by 10 U.S.C. 81, Section 1588 and regulated by Air Force Instruction (AFI) 84-103. AFI 84-103, paragraph 3.5.3 requires the use of AF Form 3569. AF Form 3569 provides the most expedient means to secure basic personal information (i.e., name, telephone number, address and experience pursuant to USAF Museum System Volunteer Program requirements) to be employed solely by the USAF Museum System Volunteer Program to recruit, evaluate and make work assignment decisions. AF Form 3569 is the only instrument that exists which facilitates this purpose. The USAF Museum Volunteer Program is an integral function in the operation of the USAF Museum System. Volunteers provide valuable time, incalculable talent, skill and knowledge of USAF aviation history so that all visitors to the many USAF Museum System facilities throughout the United States may enjoy the important contribution of USAF historical heritage.

Janet A. Long,
Air Force Federal Register Liaison Officer.

[FR Doc. 00-3427 Filed 2-14-00; 8:45 am]

BILLING CODE 5001-05-U